ENVIRONMENTAL PROTECTION AGENCY

[EPA-HQ-SFUND-2009-0907; FRL-9114-6]

RIN 2050-ZA05

Guidance on Recommended Interim Preliminary Remediation Goals for Dioxin in Soil at CERCLA and RCRA Sites; Extension of Comment Period

AGENCY: Environmental Protection Agency (EPA).

ACTION: Notice of public comment; extension of comment period.

SUMMARY: In response to requests from the public, the Environmental Protection Agency (EPA) is providing an additional 35 days for the public to provide its comments on the draft recommended interim preliminary remediation goals (PRGs) developed in the draft Guidance on Recommended Interim Preliminary Remediation Goals for Dioxin in Soil at Comprehensive Environmental Response, Compensation, and Liability Act (CERCLA) and Resource Conservation and Recovery Act (RCRA) Sites. In EPA's initial notice, which was published in the Federal Register on January 7, 2010 (75 FR 984), the deadline for the public to provide its comments was February 26, 2010. The purpose of this notice is to provide additional time until April 2, 2010.

DATES: Comments must be received on or before April 2, 2010.

ADDRESSES: Provide your comments, identified by Docket ID No. EPA-HQ-SFUND-2009-0907, by one of the following methods:

• http://www.regulations.gov. Follow the on-line instructions for submitting your views.

• E-mail: OSWER.Docket@epa.gov. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

• Fax: 202-566-0272.

• Mail: EPA Docket Center, Environmental Protection Agency, Mail Code: 5305T, 1200 Pennsylvania Avenue, NW., Washington, DC 20460. Please include a total of two copies.

• Hand Delivery: EPA Docket Center (EPA/DC), Room 3334, EPA West Building, 1301 Constitution Avenue, NW., Washington, DC 20460, Attention Docket ID No. EPA-HQ-SFUND-2009-0907. Deliveries are only accepted from 8:30 a.m. to 4:30 p.m., Monday through Friday, excluding legal holidays. Special arrangements should be made for deliveries of boxed information. Please include a total of two copies.

Instructions: Direct your comments to Docket ID No. EPA-HQ-SFUND-2009-0907. EPA's policy is that all comments received will be included in the public docket without change and may be made available online at http://www.regulations.gov, including any personal information provided, unless the comment includes information claimed to be Confidential Business Information (CBI) or other information whose disclosure is restricted by statute. Do not submit information that you consider to be CBI or otherwise protected by statute through http://www.regulations.gov or e-mail. The http://www.regulations.gov Web site is an “anonymous access” system, which means EPA will not know your identity or contact information unless you provide it in the body of your comment. If you send an e-mail comment directly to EPA, without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: This Federal Register notice and supporting documentation are available in a docket EPA has established under Docket ID No. EPA-HQ-SFUND-2009-0907. All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the OSWER Docket, EPA West, Room 3334, 1301 Constitution Avenue, NW., Washington, DC. The Public Reading Room is open from 8:30 a.m. to 4:30 p.m., Monday through Friday, excluding legal holidays. The telephone number for the Public Reading Room is (202) 566-1744, and the telephone number for the OSWER docket is (202) 566-0270.

FOR FURTHER INFORMATION CONTACT: Marlene Berg, Office of Superfund Remediation and Technology Innovation, 1200 Pennsylvania Avenue, NW., Mail Code: 5204P, Washington, DC 20460; by telephone/voicemail at (703) 603-8701; Fax: (703) 603-9112; or via e-mail at berg.marlene@epa.gov.

SUPPLEMENTARY INFORMATION: EPA is extending the deadline for interested parties to submit their comments by 35 days in response to a request from the American Chemistry Council's Chlorine Council for more time to submit comments on the draft recommended interim PRGs. The initial deadline published in the Federal Register on January 7, 2010 (75 FR 984), was for 50 days. Therefore, the new deadline will now be April 2, 2010.

Dated: February 12, 2010.
Mathy Stanislaus,
Assistant Administrator, Office of Solid Waste and Emergency Response.

[FR Doc. 2010-3368 Filed 2-19-10; 8:45 am]

BILLING CODE 6560-50-P